DEPARTMENT OF LABOR

Employment and Training Administration

[TA-W-50,763]

Pfizer, Inc., Groton Manufacturing Plant, Groton, CT; Notice of Termination of Investigation

Pursuant to section 221 of the Trade Act of 1974, as amended, an investigation was initiated on January 31, 2003, in response to a worker petition filed the State of Connecticut on behalf of workers at Pfizer, Inc., Groton Manufacturing Plant, Groton, Connecticut

All workers were separated from the subject firm more than one year before the date of the petition. Section 223(b) of the Act specifies that no certification may apply to any worker whose last separation occurred more than one year before the date of the petition. Consequently, further investigation in this case would serve no purpose, and the investigation has been terminated.

Signed in Washington, DC, this 21st day of March 2003.
Richard Church,
Certifying Officer, Division of Trade Adjustment Assistance.

[FR Doc. 03-7920 Filed 4-1-03; 8:45 am]

BILLING CODE 4510-30-P